DEPARTMENT OF COMMERCE

International Trade Administration

[A-570-806]

Silicon Metal from the People's Republic of China: Notice of Rescission of New Shipper Review and Administrative Review for China Shanxi Province Lin Fen Prefecture Foreign Trade Import and Export Corp.

AGENCY: Import Administration, International Trade Administration, U.S. Department of Commerce.

SUMMARY: In response to timely requests from respondent, China Shanxi Province Lin Fen Prefecture Foreign Trade Import and Export Corp. (Lin Fen), the Department of Commerce (the Department) initiated a new shipper review of the antidumping duty order on silicon metal from the People's Republic of China (PRC), covering the period of June 1, 2001 through November 30, 2001, and an administrative review covering the period of June 1, 2001 through May 31, 2002. See Silicon Metal from the People's Republic of China (PRC): Initiation of Antidumping Duty New Shipper Review, 67 FR 5966 (February 8, 2002), and Initiation of Antidumping and Countervailing Duty Administrative Reviews and Requests for Revocation in Part, 67 FR 48435 (July 24, 2002). Since Lin Fen has withdrawn its requests for a new shipper review and an administrative review, and there was no request for review from any other interested party, the Department is rescinding these reviews in accordance with section 351.302(b) and section 351.213 (d)(1) of the Department's regulations, respectively.

EFFECTIVE DATE: March 7, 2003.

FOR FURTHER INFORMATION CONTACT: Christian Hughes or Matthew Renkey, AD/CVD Enforcement Group III, Office 7, Import Administration, International Trade Administration, U.S. Department of Commerce, 14th Street and Constitution Avenue, N.W., Washington D.C. 20230; telephone (202) 482-0190 and (202)482-2312.

SUPPLEMENTARY INFORMATION:

Background

On November 30, 2001, Lin Fen requested that the Department initiate a new shipper review of its sales of silicon metal from PRC to the United States pursuant to section 351. 214 of the Department's regulations. On December 26, 2001, the Department sent a letter informing Lin Fen that its request was deficient. On December 31, 2001, Lin Fen submitted a revised request for the Department to initiate a new shipper review (December is the semi-annual anniversary month of this order). On January 31, 2002, the Department found that Lin Fen's new shipper review request met all of the regulatory requirements in accordance with section 351.214 (b) of the Department's regulations and, therefore, initiated this new shipper review. See Silicon Metal from the People's Republic of China (PRC): Initiation of Antidumping Duty New Shipper Review, 67 FR 5966 (February 8, 2002).

On June 28, 2002, Lin Fen submitted a timely request for the Department to conduct an administrative review covering the period June 1, 2001 through May 31, 2002, in accordance with section 351.213 (b)(2) of the Department's regulations. In the request, Lin Fen stated that it had one sale to the United States of the subject merchandise during this period of review. In furtherance of the request, Lin Fen stated that this sale was already subject to the ongoing new shipper review of Lin Fen and stated that Lin Fen had no other sales of subject merchandise to the United States during this period of review. On July 18, 2002, the Department initiated Lin Fen's administrative review request. See Initiation of Antidumping and Countervailing Duty Administrative Reviews and Requests for Revocation in Part, 67 FR 48435 (July 24, 2002).

On October 2, 2002, Lin Fen requested an expansion of the six-month period of review in the new shipper review in order to include both a sale to an unaffiliated customer and an entry of subject merchandise into the United States in the new shipper review. In furtherance of the request, and in accordance with section 351. 214 (j)(3) of the Department's regulations, Lin Fen also agreed to waive the time limits of 351.214 (i) so that the Department might conduct the new shipper review concurrently with the administrative review for the period June 1, 2001 through May 31, 2002. The Department granted this request and extended the review period for the new shipper review from June 1, 2001 through November 30, 2001 to June 1, 2001 through January 14, 2002, and it also postponed the time limit for the preliminary results of the new shipper review in conjunction with the administrative review. See Silicon Metal From the People's Republic of China (PRC): Postponement of Time Limit for Preliminary Results of New Shipper Antidumping Review in Conjunction with Administrative Review, 67 FR 70403 (November 22, 2002).

On December 31, 2002, Lin Fen submitted a letter withdrawing its request for the new shipper review and administrative review. On February 4, 2003, the Department issued a memorandum to the parties analyzing these withdrawals and stating that it intended to rescind these reviews (see Memorandum to File through Maureen Flannery, Program Manager, Office of AD/CVD Enforcement VII, from Christian Hughes, Analyst: Silicon Metal from the People's Republic of China: Release of Intent to Rescind Memorandum for New Shipper Review and Administrative Review for China Shanxi Province Lin Fen Prefecture Foreign Trade Import and Export Corp., dated February 4, 2003. We received no comments from any parties on this memorandum.

Rescission of Antidumping Duty New Shipper Review and Rescission, in Part, of Administrative Review

The Department is rescinding the antidumping duty new shipper review of Lin Fen covering the period June 1, 2001 through January 14, 2002, and the administrative review covering the period June 1, 2001 through May 31, 2002, in accordance with section 351.302(b) and section 351.213(d)(1) of the Department's regulations, respectively. Although Lin Fen's withdrawals from these reviews were not within the normal time limits prescribed in section 351.214(f) and section 351.213(d)(1) of the Department's regulations, we find that, under the circumstances of these reviews, it is appropriate to accept the withdrawals and rescind the reviews.

First, with respect to the administrative review, the Department has confirmed through a U.S. Customs query that there were no entries of silicon metal during the period of review except for those covered by the new shipper review. As such, although the withdrawal request was untimely, it is reasonable to accept it since the Department would have rescinded the administrative review due to no shipments in accordance with section 351.213(d)(3) of the Department's regulations. Thus, the result is the same: if any shipments are made by Lin Fen, such shipments will be subject to the PRC-wide rate until another review is requested.

With respect to the new shipper review, a rescission will not provide any advantage to Lin Fen. The assessment rate for the new shipper sales will be the PRC-wide rate, which is the only rate, as well as the highest rate, from any segment of this proceeding. Moreover, continuing the new shipper review would result in an inefficient use of the Department's resources since the Department would have to issue multiple determinations, and request and analyze comments from the interested parties. Based on the foregoing reasons, we find it appropriate to rescind the new shipper and administrative reviews of Lin Fen.

Cash Deposit Requirements

Bonding will no longer be permitted to fulfill security requirements for shipments from Lin Fen of silicon metal from the PRC entered, or withdrawn from warehouse, for consumption in the United States on or after the publication of this notice in the Federal Register. The following cash deposit requirements will be effective upon publication of this notice for all shipments of silicon metal by Lin Fen entered, or withdrawn from warehouse, for consumption on or after the date of publication, as provided by section 751(a)(2)(C) of the Act. For silicon metal exported by Lin Fen, the cash deposit rate will be the PRC-wide rate, which is currently 139.49 percent. There are no changes to the rates applicable to any other company under this order. The Department will issue appropriate assessment instructions directly to the Customs Service within 15 days of publication of this notice.

Notification of Parties

This notice serves as a final reminder to importers of their responsibility under section 351.402(f) to file a certificate regarding the reimbursement of antidumping duties prior to liquidation of the relevant entries during this period of review. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This determination and notice is issued and published in accordance with section 351.214(f)(3) and section 351.213(d)(4) of the Department's regulations and sections 751(a)(1), and 751(a)(2)(B) of the Act.

Dated: February 28, 2003.
Faryar Shirzad,
Assistant Secretary for Import Administration.

[FR Doc. 03-5489 Filed 3-6-02; 8:45 am]

BILLING CODE 3510-DS-S